DEPARTMENT OF ENERGY

Federal Energy Regulatory Commission

[Docket No. RP00-168-000]

Northwest Pipeline Corporation v. El Paso Natural Gas Company; Notice of Complaint

January 28, 2000.

Take notice that on January 27, 2000, Northwest Pipeline Corporation (Northwest) filed a complaint against EL Paso Natural Gas Company (El Paso) pursuant to 18 CFR 206. Northwest asserts that El Paso is violating GISB standards 1.3.2 and 1.3.22 by failing to adhere to the confirmation deadlines and confirmation quantities set forth therein. Northwest claims that El Paso's failure results in scheduled quantity differences between the pipelines at the interconnect point. Northwest has been unsuccessful in trying to get EL Paso to comply and requests that the Commission order El Paso to adhere to, and to determine scheduled quantities for the period dating back to June 1, 1999 in accordance with, the GISB standards.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before February 16, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.fed.us/online/rims.htm (call 202-208-2222) for assistance. Answers to the complaint shall also be due on or before Febuary 16, 2000.

David P. Boergers,
Secretary.

[FR Doc. 00-2374 Filed 2-2-00; 8:45 am]

BILLING CODE 6717-01-M